DEPARTMENT OF HEALTH AND HUMAN SERVICES

National Institutes of Health

National Cancer Institute; Amended Notice of Meeting

Notice is hereby given of a change in the meeting of the National Cancer Institute Initial Review Group; Career Development Study Section (J), February 28, 2024, 10:00 a.m. to February 29, 2024, 06:00 p.m., National Cancer Institute Shady Grove, 9609 Medical Center Drive, Room 7W624, Rockville, Maryland 20850 which was published in the Federal Register on November 2, 2023, FR Doc. 2023-24225, 88 FR 75294.

This notice is being amended to change the start time of the meeting from 10:00 a.m. to 9:00 a.m. on February 28, 2024. The meeting dates and location will stay the same. The meeting is closed to the public.

Dated: November 27, 2023.
Melanie J. Pantoja,
Program Analyst, Office of Federal Advisory Committee Policy.

[FR Doc. 2023-26451 Filed 11-30-23; 8:45 am]

BILLING CODE 4140-01-P